DEPARTMENT OF HEALTH AND HUMAN SERVICES

National Institutes of Health

Center for Scientific Review

Notice is hereby given of the cancellation of the Visual Sciences C Study Section, October 11, 2001, 8 a.m. to October 12, 1001, 4 p.m., Melrose Hotel, 2430 Pennsylvania Avenue, NW., Washington, DC 20037 which was published in the Federal Register on September 28, 2001, 66 FR 49683-49685.

The meeting is cancelled due to the lack of standing members.

Dated: October 4, 2001.
LaVerne Y. Stringfield,
Director, Office of Federal Advisory Committee Policy.

[FR Doc. 01-25806 Filed 10-12-01; 8:45 am]

BILLING CODE 4140-01-M